EXPORT-IMPORT BANK

[Public Notice 2025-6026]

Agency Information Collection Activities: Submission to the Office of Management and Budget for Review and Approval; Comment Request; EIB 09-01, Payment Default Report

AGENCY: Export-Import Bank of the U.S.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before November 10, 2025 to be assured of consideration.

ADDRESSES: Comments may be submitted electronically on http://www.regulations.gov or mail to Mr. Gary Allo, Export Import Bank of the United States, 811 Vermont Ave. NW, Washington, DC 20571. Attn: 3048-0028. The form can be viewed at: https://img.exim.gov/s3fs-public/pub/pending/eib09-01_payment_default_report.pdf.

FOR FURTHER INFORMATION CONTACT: Gary Allo <gary.allo@exim.gov>, 202-565-3706.

SUPPLEMENTARY INFORMATION: This collection allows insured/guaranteed parties and insurance brokers to report overdue payments from the borrower and/or guarantor. To facilitate completion, the form includes many checkboxes and self-populating fields. Also, customers can submit it electronically through EXIM Online, replacing paper reporting. EXIM provides insurance, loans, and loan guarantees for the financing of exports of goods and services.

Titles and Form Number: EIB 09-01, Payment Default Report.

OMB Number: 3048-0028.

Type of Review: Regular.

Need and Use: The information requested enables insured/guaranteed parties and insurance brokers to report overdue payments from the borrower and/or guarantor.

Affected Public: This form affects Insured/guaranteed parties and brokers.

Annual Number of Respondents: 500.

Estimated Time per Respondent: 15 minutes.

Annual Burden Hours: 125 hours.

Frequency of Reporting of Use: Annual.

Dated: September 8, 2025.
Andrew Smith,
Records Officer.

[FR Doc. 2025-17418 Filed 9-9-25; 8:45 am]

BILLING CODE 6690-01-P